DEPARTMENT OF THE INTERIOR

Bureau of Land Management

[LLCA942000 L57000000.BX0000]

Filing of Plats of Survey: California

AGENCY: Bureau of Land Management, Interior.

ACTION: Notice.

SUMMARY: The plats of survey of lands described below are scheduled to be officially filed in the Bureau of Land Management California State Office, Sacramento, California, thirty (30) calendar days from the date of this publication.

ADDRESSES: A copy of the plats may be obtained from the California State Office, Bureau of Land Management, 2800 Cottage Way, Sacramento, California 95825, upon required payment.

Protest: A person or party who wishes to protest a survey must file a notice that they wish to protest with the California State Director, Bureau of Land Management, 2800 Cottage Way, Sacramento, California, 95825.

FOR FURTHER INFORMATION CONTACT: Chief, Branch of Geographic Services, Bureau of Land Management, California State Office, 2800 Cottage Way, Room W-1623, Sacramento, California 95825, (916) 978-4310.

SUPPLEMENTARY INFORMATION: These surveys were executed to meet the administrative needs of various federal agencies; the Bureau of Land Management, Bureau of Indian Affairs or Bureau of Reclamation. The lands surveyed are:

Mount Diablo Meridian, California

T. 31 S., R. 16 E., dependent resurvey and metes-and-bounds survey accepted July 19, 2013.

T. 23 S., R. 16 E., dependent resurvey and subdivision of section 28 accepted August 8, 2013.

T. 6 N., R. 17 E., amended protraction diagram for unsurveyed area accepted August 9, 2013.

T. 18 N., R. 11 W., dependent resurvey and subdivision accepted August 19, 2013.

T. 21 N., R. 15 E., dependent resurvey and subdivision of sections accepted November 4, 2013.

T. 45 N., R. 15 E., dependent resurvey and subdivision accepted November 4, 2013.

T. 26 S., R. 36 E., dependent resurvey accepted November 8, 2013.

T. 18 N., R. 1 W., metes-and-bounds survey accepted December 4, 2013.

San Bernardino Meridian, California

T. 1 S., R. 17 W., dependent resurvey, metes-and-bounds survey and informative traverse accepted July 12, 2013.

T. 7 S., R. 12 E., dependent resurvey, subdivision of sections and metes-and-bounds survey accepted August 8, 2013.

T. 8 S., R. 12 E., dependent resurvey, subdivision of sections and metes-and-bounds survey accepted August 19, 2013.

T. 9 S., R. 14 E., dependent resurvey and metes-and-bounds survey accepted August 19, 2013.

T. 9 S., R. 13 E., dependent resurvey, subdivision of sections and metes-and-bounds survey accepted August 20, 2013.

T. 10 S., R. 14 E., dependent resurvey, subdivision of sections and metes-and-bounds survey accepted September 18, 2013.

T. 7 S., R. 13 E., dependent resurvey, subdivision of sections and metes-and-bounds survey accepted September 18, 2013.

T. 11 S., R. 15 E., dependent resurvey accepted September 19, 2013.

T. 11 S., R. 16 E., dependent resurvey accepted September 19, 2013.

T. 10 S., R. 18 E., dependent resurvey accepted September 19, 2013.

T. 9 S., R. 16 E., dependent resurvey, subdivision of sections and metes-and-bounds survey accepted September 19, 2013.

T. 10 S., R. 15 E., dependent resurvey and metes-and-bounds survey accepted September 19, 2013.

T. 12 S., R. 16 E., dependent resurvey and informative traverse accepted September 19, 2013.

T. 11 S., R. 19 E., dependent resurvey and retracement accepted September 20, 2013.

T. 13 S., R. 18 E., dependent resurvey, independent resurvey and subdivision of section accepted September 24, 2013.

T. 12 S., R. 17 E., dependent resurvey and informative traverse accepted September 24, 2013.

T. 9 S., R. 17 E., dependent resurvey, independent resurvey, subdivision of sections, informative traverse and metes-and-bounds survey accepted September 25, 2013.

T. 10 S., R. 19 E., dependent resurvey and independent resurvey accepted September 25, 2013.

T. 12 S., R. 19 E., dependent resurvey and subdivision of section accepted September 25, 2013.

T. 3 S., R. 1 E., supplemental plat of tract 52 in section 1 accepted November 14, 2013.

T. 2 N., R. 5 W., dependent resurvey and subdivision of fractional sections 26, 27, 35, and 36 accepted November 21, 2013.

T. 7 S., R. 12 E., supplemental plat of the S 1/2 of section 34 accepted November 26, 2013.

T. 7 S., R. 12 E., supplemental plat of the S 1/2 of section 35 accepted November 26, 2013.

T. 7 S., R. 12 E., supplemental plat of the SW 1/4 of section 36 accepted November 26, 2013.

T. 7 S., R. 13 E., supplemental plat of section 31 accepted November 27, 2013.

T. 7 S., R. 13 E., supplemental plat of sections 13 and 14 accepted November 27, 2013.

T. 7 S., R. 13 E., supplemental plat of the NW 1/4 of section 22 accepted November 27, 2013.

T. 8 S., R. 12 E., supplemental plat of section 2 accepted November 27, 2013.

T. 10 S., R. 14 E., supplemental plat of the E 1/2 of the NE 1/4 of section 22 accepted November 27, 2013.

Humboldt Meridian, California

T. 12 N., R. 2 E., dependent resurvey, subdivision and survey accepted August 8, 2013.

Authority: 43 U.S.C., Chapter 3.

Dated: December 9, 2013.
Lance J. Bishop,
Chief Cadastral Surveyor, California.

[FR Doc. 2013-29943 Filed 12-16-13; 8:45 am]

BILLING CODE 4310-40-P